DEPARTMENT OF HEALTH AND HUMAN SERVICES

Food and Drug Administration

21 CFR Part 73

[Docket No. FDA-2018-C-1007]

Listing of Color Additives; of Color Additives Exempt From Certification; Antarctic Krill Meal; Confirmation of Effective Date

AGENCY: Food and Drug Administration, Department of Health and Human Services (HHS).

ACTION: Final rule; confirmation of effective date.

SUMMARY: The Food and Drug Administration (FDA or we) is confirming the effective date of June 10, 2022, for the final rule that appeared in the Federal Register of May 10, 2022, and that amended the color additive regulations to provide for the safe use of Antarctic krill meal, composed of the ground and dried tissue of Euphausia superba, with or without the lipid fraction, for use in the feed of salmonid fish, to enhance the color of their flesh.

DATES: Effective date of final rule published in the Federal Register of May 10, 2022 (87 FR 27931) confirmed: June 10, 2022.

ADDRESSES: For access to the docket to read background documents or comments received, go to https://www.regulations.gov and insert the docket number found in brackets in the heading of this final rule into the “Search” box and follow the prompts, and/or go to the Dockets Management Staff, 5630 Fishers Lane, Rm. 1061, Rockville, MD 20852.

FOR FURTHER INFORMATION CONTACT: Stephen DiFranco, Center for Food Safety and Applied Nutrition, Food and Drug Administration, 5001 Campus Dr., College Park, MD 20740, 240-402-2710.

SUPPLEMENTARY INFORMATION: In the Federal Register of May 10, 2022 (87 FR 27931), we amended the color additive regulations in part 73 (21 CFR part 73), “Listing of Color Additives Exempt From Certification,” to add a new § 73.32, “Antarctic krill meal.” The new regulation provides for the safe use of Antarctic krill meal, composed of the ground and dried tissue of Euphausia superba, with or without the lipid fraction, for use in the feed of salmonid fish, to enhance the color of their flesh.

We gave interested persons until June 10, 2022, to file objections or requests for a hearing. We received no objections or requests for a hearing on the final rule. Therefore, we find that the effective date of the final rule that published in the Federal Register of May 10, 2022, should be confirmed.

List of Subjects in 21 CFR Part 73

Color additives, Cosmetics, Drugs, Foods, Medical devices.

Therefore, under the Federal Food, Drug, and Cosmetic Act (21 U.S.C. 321, 341, 342, 343, 348, 351, 352, 355, 361, 362, 371, 379e) and under authority delegated to the Commissioner of Food and Drugs, we are giving notice that no objections or requests for a hearing were filed in response to the May 10, 2022, final rule. Accordingly, the amendments issued thereby became effective June 10, 2022.

Dated: August 30, 2022.
Lauren K. Roth,
Associate Commissioner for Policy.

[FR Doc. 2022-19277 Filed 9-6-22; 8:45 am]

BILLING CODE 4164-01-P